DEPARTMENT OF TRANSPORTATION

Surface Transportation Board

[Section 5a Application No. 1 (Sub-No. 10)]

Household Goods Carriers Bureau Committee—Agreement

AGENCY: Surface Transportation Board.

ACTION: Request for comments.

SUMMARY: The Surface Transportation Board (Board) requests comments on whether approval of the rate bureau agreement of the Household Goods Carriers Bureau Committee (HGB) ought to be conditioned on reductions in “benchmark” rates to prevailing levels of market based rates.

DATES: Comments are due by March 27, 2000; replies are due March 13, 2000.

ADDRESSES: Send an original and 10 copies of comments and replies, referring to “Section 5a Application No. 1 (Sub-No. 10)” to: Surface Transportation Board, Office of the Secretary, Case Control Unit, 1925 K Street, N.W., Washington, DC 20423.

FOR FURTHER INFORMATION CONTACT: Joseph H. Dettmar, (202) 565-1600. [TDD for the hearing impaired: 1-800-877-8339.]

SUPPLEMENTARY INFORMATION: In our decisions in EC-MAC Motor Carriers Service Association, Inc., et al., Sec. 5a Application No. 118 (Amendment No. 1), et al. (STB served Dec. 18, 1998, and February 11, 2000) (EC-MAC) (which are available on the Board's website at “WWW.STB.DOT.GOV”), we conditioned renewal of motor carrier rate bureau agreements under 49 U.S.C. 13703 on reductions of collective rates to prevailing competitive rate levels. In its renewal application, HGB does not address how the concerns expressed in EC-MAC apply to the traffic carried by its members. It does, however, appear to us that HGB serves as a forum in which members collectively set benchmark rates, from which the actual rates paid by many householders are discounted. Therefore, before acting on HGB's application, we are seeking comment on whether any immunity granted to HGB ought to be conditioned on reductions in benchmark rates to prevailing levels of market based rates and, if so, methodologies that can be used to adjust the collectively set rates to market-based levels.

Decided: February 4, 2000.
By the Board, Chairman Morgan, Vice Chairman Burkes, and Commissioner Clyburn.
Vernon A. Williams,
Secretary.

[FR Doc. 00-3238 Filed 2-10-00; 8:45 am]

BILLING CODE 4915-00-P